DEPARTMENT OF COMMERCE

International Trade Administration

[A-570-084; C-570-085]

Certain Quartz Surface Products From the People's Republic of China: Preliminary Results of 2021-2023 Antidumping Duty and 2021-2022 Countervailing Duty Administrative Reviews

AGENCY: Enforcement and Compliance, International Trade Administration, Department of Commerce.

SUMMARY: The U.S. Department of Commerce (Commerce) preliminarily determines that certain Malaysian exporters of certain quartz surface products (quartz surface products) continue to be ineligible to participate in the scope certification process established for the antidumping duty (AD) and countervailing duty (CVD) orders on quartz surface products from the People's Republic of China (China) for all imports of quartz surface products from Malaysia. Specifically, we find that these Malaysian exporters did not demonstrate that the quartz slab used to produce their exports to the United States was sourced from a country other than China. Interested parties are invited to comment on these preliminary results of review.

DATES: Applicable August 5, 2024.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On July 11, 2019, Commerce published the Orders on quartz surface products from China.¹ On September 11, 2023, we initiated AD and CVD administrative reviews of the Orders.² On March 18, 2024, we extended the preliminary results of these reviews to no later than July 30, 2024.³ On July 22, 2024, Commerce tolled certain deadlines in this administrative proceeding by seven days.⁴ The deadline for the preliminary results is now August 6, 2024. For a complete description of the events that followed the initiation of these reviews, see the Preliminary Decision Memorandum.⁵

¹ See Certain Quartz Surface Products from the People's Republic of China: Antidumping and Countervailing Duty Orders, 84 FR 33053 (July 11, 2019) (Orders).

² See Initiation of Antidumping and Countervailing Duty Administrative Reviews, 88 FR 62322 (September 11, 2023).

³ See Memorandum, “Extension of Deadline for Preliminary Results of the Antidumping Duty Administrative Review; 2021-2023,” dated March 18, 2024; see also Memorandum, “Extension of Deadline for Preliminary Results of the Countervailing Duty Administrative Review; 2021-2022,” dated March 18, 2024.

⁴ See Memorandum, “Tolling of Deadlines for Antidumping and Countervailing Duty Proceedings,” dated July 22, 2024.

⁵ See Memorandum, “Decision Memorandum for the Preliminary Results of the 2021-2023 Antidumping Duty and 2021-2022 Countervailing Duty Administrative Reviews of Certain Quartz Surface Products from the People's Republic of China,” dated concurrently with, and hereby adopted by, this notice (Preliminary Decision Memorandum).

Scope of the Orders

The products covered by the Orders are quartz surface products from China. For a complete description of the scope of the Order, see Preliminary Decision Memorandum.

Periods of Review ⁶

⁶ See Certain Quartz Surface Products from the People's Republic of China: Expansion of the Period of Review and Supplemental Opportunity To Request Administrative Review, 89 FR 14055 (February 26, 2024); see also Certain Quartz Surface Products from the People's Republic of China: Expansion of the Period of Review and Supplemental Opportunity To Request Administrative Review; Correction, 89 FR 17812 (March 12, 2024).

The period of review (POR) of the AD review is November 4, 2021, through June 30, 2023. The POR of the CVD review is November 4, 2021, through December 31, 2022.

Methodology and Preliminary Results

Commerce is conducting these reviews in accordance with section 751 of the Tariff Act of 1930, as amended (the Act). We preliminarily determine that Bada Industries, Karina Stone, Unique Stone Sdn. Bhd. (Unique Stone), and Universal Quartz, have not demonstrated that the quartz slab used to produce their Malaysian exports to the United States during the POR was sourced from a country other than China. As a result, we preliminary find that Bada Industries, Karina Stone, Unique Stone, and Universal Quartz continue to be ineligible to participate in the certification process for quartz surface products from Malaysia.

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of the topics discussed in the Preliminary Decision Memorandum is attached as an appendix to this notice.

Assessment Rates

Upon issuing the final results, Commerce shall determine, and U.S. Customs and Border Protection (CBP) shall assess, antidumping and countervailing duties on all appropriate entries covered by this review.⁷ For the period November 4, 2021, through December 31, 2022, we will instruct CBP to liquidate any entries for the exporters under review at 371.47 percent, the combination of the China-wide rate established in the AD investigation and the all-others rate established in the CVD investigation. For the period of January 1, 2023, through June 30, 2023, we will instruct CBP to liquidate any entries for the exporters under review at 326.15 percent, the China-wide rate established in the AD investigation.

⁷ See 19 CFR 351.106(c)(2).

In accordance with sections 751(a)(2)(C) and 751(a)(1) of the Act, the final results of these reviews shall be the basis for the assessment of antidumping and countervailing duties on entries of merchandise covered by the review and for future deposits of estimated duties, where applicable. Commerce intends to issue assessment instructions to CBP no earlier than 35 days after the date of publication of the final results of these reviews in the Federal Register. If a timely summons is filed at the U.S. Court of International Trade, the assessment instructions will direct CBP not to liquidate relevant entries until the time for parties to file a request for a statutory injunction has expired (i.e., within 90 days of publication).

Cash Deposit Requirements—AD

The following AD cash deposit requirements will be effective upon publication of the final results of review for all shipments of subject merchandise from China entered, or withdrawn from warehouse, for consumption on, or after, the publication date of the final results of review, as provided for by section 751(a)(2)(C) of the Act: (1) for the Malaysian exporters subject to this review (i.e., Bada Industries, Karina Stone, Unique Stone, and Universal Quartz), Commerce will instruct CBP to require AD cash deposits equal to the current China-wide rate (i.e., 326.15 percent); (2) for previously investigated or reviewed exporter of subject merchandise that have a separate rate, the cash deposit rate will continue to be the exporter's existing cash deposit rate; (3) for all Chinese exporters of subject merchandise that do not have a separate rate, the cash deposit rate will be the rate established for the China-wide entity, i.e., 326.15 percent; ⁸ and (4) for all exporters of subject merchandise that are not located in China and that are not eligible for a separate rate, the cash deposit rate will be the rate applicable to the Chinese exporter(s) that supplied that non-Chinese exporter. These deposit requirements, when imposed, shall remain in effect until further notice.

⁸ See Order, 78 FR at 21592.

Cash Deposit Requirements—CVD

In accordance with section 751(a)(2)(C) of the Act, for the exporters subject to this review (i.e., Bada Industries, Karina Stone, Unique Stone, and Universal Quartz), Commerce also intends, upon publication of the final results, to instruct CBP to collect cash deposits of estimated countervailing duties for the companies subject to this review at current all-others rate (i.e., 45.32 percent). For all non-reviewed firms, CBP will continue to collect cash deposits of estimated countervailing duties at the all-others rate or the most recent company-specific rate applicable to the company, as appropriate. These cash deposit requirements, when imposed, shall remain in effect until further notice.

Verification

Because we preliminary determine that the exporters under review are not eligible to participate in the certification process, we will not conduct verification.

Public Comment

Pursuant to 19 CFR 351.309(c), interested parties may submit case briefs to Commerce no later than 30 days after the date of publication of this notice.⁹ Rebuttal briefs, limited to issues raised in the case briefs, may be filed no later than five days after the date for filing case briefs.¹⁰ Interested parties who submit case briefs or rebuttal briefs in this proceeding must submit: (1) a table of contents listing each issue; and (2) a table of authorities.¹¹ All case and rebuttal briefs should be filed using ACCESS.¹² An electronically-filed document must be received successfully in its entirety by ACCESS by 5:00 p.m. Eastern Time on the established deadline. Parties should file their case and rebuttal briefs on the records of both the AD and CVD administrative reviews.

⁹ See 19 CFR 351.303 (for general filing requirements).

¹⁰ See 19 CFR 351.309(d); see also Administrative Protective Order, Service, and Other Procedures in Antidumping and Countervailing Duty Proceedings, 88 FR 67069, 67077 (September 29, 2023) (APO and Service Final Rule).

¹¹ See 19 CFR 351.309(c)(2) and (d)(2).

¹² See 19 CFR 351.303.

As provided under 19 CFR 351.309(c)(2) and (d)(2), in prior proceedings we have encouraged interested parties to provide an executive summary of their brief that should be limited to five pages total, including footnotes. In these reviews, we instead request that interested parties provide at the beginning of their briefs a public, executive summary for each issue raised in their briefs. Further, we request that interested parties limit their executive summary of each issue to no more than 450 words, not including citations. We intend to use the executive summaries as the basis of the comment summaries included in the issues and decision memorandum that will accompany the final results in these reviews. We request that interested parties include footnotes for relevant citations in the executive summary of each issue. Note that Commerce has amended certain of its requirements pertaining to the service of documents in 19 CFR 351.303(f).¹³

¹³ See APO and Service Final Rule.

Pursuant to 19 CFR 351.310(c), interested parties who wish to request a hearing must submit a written request to the Assistant Secretary for Enforcement and Compliance, filed electronically via ACCESS within 30 days after the date of publication of this notice. Requests should contain: (1) the party's name, address, and telephone number; (2) the number of participants; and (3) a list of issues to be discussed. Issues raised in the hearing will be limited to those raised in the respective case briefs. If a request for a hearing is made, Commerce will notify interested parties of the time and date for the hearing.¹⁴

¹⁴ See 19 CFR 351.310(d).

Final Results

Commerce intends to issue the final results of these administrative reviews, including the results of its analysis raised in any written briefs, not later than 120 days after the publication of these preliminary results in the Federal Register, unless otherwise extended.¹⁵

¹⁵ See section 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, 19 CFR 351.213, and 19 CFR 351.221(b)(4).

Dated: July 29, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Periods of Review

IV. Scope of the Orders

V. Analysis of Certification Eligibility

VI. Recommendation

[FR Doc. 2024-17171 Filed 8-2-24; 8:45 am]

BILLING CODE 3510-DS-P